DEPARTMENT OF ENERGY

10 CFR Part 430

[Docket No. EERE-2014-BT-STD-0005]

RIN 1904-AD15

Energy Conservation Program: Energy Conservation Standards for Residential Conventional Cooking Products; Supplemental Notice of Proposed Rulemaking

AGENCY: Office of Energy Efficiency and Renewable Energy, Department of Energy.

ACTION: Extension of public comment period.

SUMMARY: On September 2, 2016, the U.S. Department of Energy (DOE) published a supplemental notice of proposed rulemaking (SNOPR) pertaining to proposed energy conservation standards for conventional cooking products. The notice provided an opportunity for submitting written comments, data, and information by October 3, 2016. This document announces an extension of the public comment period for submitting comments and data on the SNOPR or any other aspect of the rulemaking for conventional cooking products. The comment period is extended to November 2, 2016.

DATES: DOE will accept comments, data, and information regarding this rulemaking received no later than November 2, 2016.

ADDRESSES: Instructions: Any comments submitted must identify the SNOPR for Energy Conservation Standards for residential conventional cooking products, and provide docket number EERE-2014-BT-STD-0005 and/or regulatory information number (RIN) 1904-AD15. Comments may be submitted using any of the following methods: Interested persons may submit comments, identified by docket number EERE-2014-BT-STD-0005 and/or regulatory information number (RIN) 1904-AD15, by any of the following methods:

(1) Federal eRulemaking Portal: www.regulations.gov. Follow the instructions for submitting comments.

(2) Email: ConventionalCookingProducts2014STD0005@ee.doe.gov Include the docket number and/or RIN in the subject line of the message. Submit electronic comments in WordPerfect, Microsoft Word, PDF, or ASCII file format, and avoid the use of special characters or any form of encryption.

(3) Postal Mail: Appliance and Equipment Standards Program, U.S. Department of Energy, Building Technologies Office, Mailstop EE-5B, 1000 Independence Avenue SW., Washington, DC 20585-0121. If possible, please submit all items on a compact disc (CD), in which case it is not necessary to include printed copies.

(4) Hand Delivery/Courier: Appliance and Equipment Standards Program, U.S. Department of Energy, Building Technologies Office, 950 L'Enfant Plaza SW., 6th Floor, Washington, DC 20024. Telephone: (202) 586-6636. If possible, please submit all items on a CD, in which case it is not necessary to include printed copies.

Docket: The docket, which includes Federal Register notices, public meeting attendee lists and transcripts, comments, and other supporting documents/materials, is available for review at www.regulations.gov. All documents in the docket are listed in the www.regulations.gov index. However, some documents listed in the index may not be publicly available, such as those containing information that is exempt from public disclosure.

The docket Web page can be found at: https://www.regulations.gov/docket?D=EERE-2014-BT-STD-0005. The docket Web page contains simple instructions on how to access all documents, including public comments, in the docket.

FOR FURTHER INFORMATION CONTACT:

Mr. John Cymbalsky, U.S. Department of Energy, Office of Energy Efficiency and Renewable Energy, Building Technologies Program, EE-2J, 1000 Independence Avenue SW., Washington, DC 20585-0121. Telephone: (202) 287-1692. Email: kitchen_ranges_and_ovens@ee.doe.gov.

Ms. Celia Sher, U.S. Department of Energy, Office of the General Counsel, GC-33, 1000 Independence Avenue SW., Washington, DC 20585-0121. Telephone: (202) 287-6122. Email: Celia.Sher@hq.doe.gov.

SUPPLEMENTARY INFORMATION: On September 2, 2016, DOE published in the Federal Register a supplemental notice of proposed rulemaking (the September 2016 SNOPR) pertaining to proposed energy conservation standards for conventional cooking products. In that notice, DOE proposed new or amended energy conservation standards for conventional cooking products and solicited comment and data from the public on the proposed standards, associated analyses, and results. DOE identified several key issues associated with the proposed standards on which DOE was particularly interested in receiving comment. 81 FR 60784. The SNOPR provided for the written submission of comments by October 3, 2016. The Association of Home Appliance Manufacturers (AHAM) has requested an extension of the comment period to allow additional time for manufacturers to conduct testing to evaluate the proposed energy conservation standards, based on the test procedure proposed in SNOPR that published in the Federal Register on August 22, 2016 (the August 2016 TP SNOPR) 81 FR 57374. AHAM stated that manufacturers do not currently conduct energy tests on conventional cooking products, and thus more time is needed to conduct testing on their product lines to evaluate the proposed test procedures and provide substantive comments on the proposed standards. (AHAM, No. 53, at pp. 2-5) An extension of the comment period would allow additional time for AHAM and its members and other interested parties to test existing models to the proposed SNOPR test procedure to gather any additional data and information to address the proposed standards for cooking products, and submit comments to DOE.

In view of the request for a comment period extension for the September 2016 SNOPR, DOE has determined that a 30-day extension of the public comment period for the September 2016 SNOPR is appropriate. The comment period is extended until November 2, 2016. DOE further notes that any submissions of comments or other information submitted between the original comment end date and the extension of the comment period will be deemed timely filed.

DOE also notes that, in response to the August 2016 TP SNOPR, it received a number of comments pertaining to the test procedure that impact the proposed standard levels from the September 2016 SNOPR.¹ Based on these comments and the extension of the comment period, DOE has identified additional information and data it is seeking that would be beneficial for the analysis in support of the standards rulemaking.

¹ These comments are available in the conventional cooking products test procedure docket at https://www.regulations.gov/docket?D=EERE-2012-BT-TP-0013.

Sub-Zero Group, Inc. commented that the proposed test procedure and standards do not take into account design features associated with commercial-style gas cooking tops that impact efficiency, including:

• High input rate burners with large diameters and high controllability of the flame, for quicker heat-up times as well as the ability to simmer foods such as chocolates and sauces;

• Heavy cast iron grates for better heat distribution and strength to support large loads;

• Greater distance from the burner to the grate for heat distribution and reduction of carbon monoxide; and

• Larger open area for primary and secondary air for combustion and exhaust of combustion byproducts.

DOE welcomes data showing how these design factors affect the measured annual energy consumption relative to the proposed standard levels. As noted in the September 2016 SNOPR, DOE selected the proposed standard level for gas cooking tops to maintain the full functionality of cooking tops marketed as commercial-style and noted that commercial-style gas cooking tops are available on the market that meet the proposed efficiency level. 81 FR 60784, 60817, 60865. As a result, DOE is also seeking data specifically on the efficiency of commercial-style products relative to the proposed standard level and the design changes that would be needed if these products cannot meet the proposed standard levels. DOE is also seeking test data showing how the design differences for commercial-style cooking tops impact cooking performance relative to residential-style products.

AHAM and GE Appliances, a Haier Company (GE) also objected to the proposed test method for determining the standby power consumption of combined cooking products (i.e., household cooking appliances that combines a conventional cooking top and/or conventional oven with other appliance functionality, which may or may not include another cooking product). GE urged DOE to consider adopting for conventional cooking tops the same prescriptive design requirement for the power supply that was proposed for conventional ovens. DOE welcomes comments on the merits of the approach of adopting a prescriptive standard for the power supply for conventional cooking tops, including data on combined cooking products.

AHAM and GE also expressed concern regarding the proposed requirement to test each unique size setting of multi-ring surface units. AHAM and GE stated that multi-ring elements provide consumers the ability to adjust the element size to the size of the cookware, which in turn saves energy. AHAM and GE noted that because the inner elements of multi-ring surface units operate at lower efficiency, the proposed test procedure could result in the elimination of multi-ring elements. DOE welcomes data comparing available surface element diameters and cooking top energy use for cooking tops with multi-ring surface units and those that do not have this feature.

Issued in Washington, DC, on September 23, 2016.
Kathleen B. Hogan,
Deputy Assistant Secretary for Energy Efficiency, Energy Efficiency and Renewable Energy.

[FR Doc. 2016-23660 Filed 9-29-16; 8:45 am]

BILLING CODE 6450-01-P